DEPARTMENT OF COMMERCE

International Trade Administration

[A-570-848]

Freshwater Crawfish Tail Meat From the People's Republic of China: Extension of Time Limit for Preliminary Results of Administrative Review

AGENCY: Import Administration, International Trade Administration, Department of Commerce.

SUMMARY: The Department of Commerce (the Department) is extending the time limit of the preliminary results of the administrative review of the antidumping duty order on freshwater crawfish tail meat from the People's Republic of China (PRC) until no later than September 30, 2003. The period of review is September 1, 2001 through August 31, 2002. This extension is made pursuant to section 751(a)(3)(A) of the Tariff Act of 1930, as amended (the Act).

EFFECTIVE DATE: June 3, 2003.

FOR FURTHER INFORMATION CONTACT: Doug Campau or Maureen Flannery, Import Administration, International Trade Administration, U.S. Department of Commerce, 14th Street and Constitution Avenue, NW., Washington, DC 20230; telephone: (202) 482-1395 and (202) 482-3020, respectively.

SUPPLEMENTARY INFORMATION:

Statutory Time Limits

Section 751(a)(3)(A) of the Act, and section 351.213(h)(1) of the Department's regulations, require the Department to issue the preliminary results of an administrative review within 245 days after the last day of the anniversary month of an order for which a review is requested. However, if it is not practicable to complete the preliminary results within the prescribed time period, section 751(a)(3)(A) of the Act, and section 351.213(h)(2) of the Department's regulations, allow the Department to extend the deadline to a maximum of 365 days after the last day of the anniversary month of an order for which a review is requested.

Background

Based on timely requests from petitioner and three respondent companies, the Department initiated an administrative review of the antidumping duty order on freshwater crawfish tail meat from the PRC, for the period of September 1, 2001 through August 31, 2002. See Initiation of Antidumping and Countervailing Duty Administrative Reviews, 67 FR 65336 (October 24, 2002).

Extension of Time Limits for Final Results

The Department finds that it is not practicable to complete the preliminary results within the time limits mandated by section 751(a)(3)(A) of the Act and section 351.213(h)(1) of the Department's regulations, as this review encompasses a large number of companies, and several complex issues, including factor valuation. Consequently, in accordance with sections 751(a)(3)(A) of the Act and section 351.213(h)(2) of the Department's regulations, the Department is extending the time limit for the completion of the preliminary results to 365 days from the last day of the anniversary month of the order. The preliminary results will now be due no later than September 30, 2003.

This notice is published pursuant to sections 751(a)(1) and 777(i)(1) of the Act.

Dated: May 28, 2003.
Barbara E. Tillman,
Acting Deputy Assistant Secretary for Import Administration, Group III.

[FR Doc. 03-13879 Filed 6-2-03; 8:45 am]

BILLING CODE 3510-DS-S